DEPARTMENT OF ENERGY

Federal Energy Regulatory Commission

[Docket No. ER04-448-003, et al.]

El Paso Electric Company, et al.; Electric Rate and Corporate Filings

June 29, 2004.

The following filings have been made with the Commission. The filings are listed in ascending order within each docket classification.

1. El Paso Electric Company

[Docket No. ER04-448-003]

Take notice that on June 24, 2004, El Paso Electric Company (EPE), submitted Second Revised Sheet Nos. 182, 187 and 280 to EPE's FERC Electric Tariff, Third Revised Volume No. 1, in compliance with the Commission's order issued June 4, 2004 in Docket No. ER04-442-000, et al., 107 FERC ¶ 61,255. EPE requests an effective date of April 26, 2004.

Comment Date: July 15, 2004.

2. Vermont Electric Cooperative, Inc.

[Docket No. ER04-694-001]

Take notice that on May 25, 2004, Vermont Electric Cooperative, Inc. (VEC) tendered for filing an amendment to its March 31, 2004, application for market-based rate authority in Docket No. ER04-694-000.

Comment Date: July 9, 2004.

3. Allied Energy Resources Corporation

[Docket No. ER04-923-001]

Take notice that on June 24, 2004, Allied Energy Resources Corporation (AERC) filed an amendment to its June 14, 2004, petition for acceptance of AERC Rate Schedule FERC No. 1; the granting of certain blanket approvals, including the authority to sell electricity at market-based rates; and the waiver of certain Commission regulations.

Comment Date: July 15, 2004.

4. Ritchie Energy Products, L.L.C.

[Docket No. ER04-954-000]

Take notice that on June 24, 2004, Ritchie Energy Products, L.L.C. (Ritchie Energy) filed with the Commission a Notice of Succession pursuant to sections 35.16 and 131.51 of the Commission's regulations, 18 CFR 35.16 and 131.51. Ritchie Energy states that as a result of a name change, Ritchie Energy is succeeding to the FERC Electric Rate Schedule of RAM Energy Products, L.L.C., effective May 27, 2004.

Comment Date: July 16, 2004.

5. New York State Electric & Gas Corporation

[Docket No. ER04-962-000]

Take notice that on June 25, 2004, New York State Electric & Gas Corporation (NYSEG) tendered for filing pursuant to section 205 of the Federal Power Act and section 35.13 of the Commission's Regulations, to Rate Schedule 200 a Facilities Agreement between NYSEG and the New York Power Authority (NYPA). NYSEG requests an effective date of September 1, 2004.

NYSEG states that copies of the filing have been served upon the NYPA and the Public Service Commission of the State of New York.

Comment Date: July 16, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1488 Filed 7-7-04; 8:45 am]

BILLING CODE 6717-01-P